ENVIRONMENTAL PROTECTION AGENCY

[FRL-9246-7]

Next Generation Risk Assessment Public Dialogue Conference

Correction

In notice document 2010-32977 appearing on page 82387 in the issue of Thursday, December 30, 2010, make the following correction:

In the second column, below the signature date, the signatory's name, “Darrell A. Winn” should read “Darrell A. Winner”.

[FR Doc. C1-2010-32977 Filed 1-11-11; 8:45 am]

BILLING CODE 6560-50-P